DEPARTMENT OF COMMERCE

Foreign-Trade Zones Board

[B-61-2019]

Foreign-Trade Zone (FTZ) 151—Calhoun/Victoria Counties, Texas; Authorization of Production Activity; Caterpillar, Inc. (Tractors and Forestry Machines); Victoria, Texas

On September 27, 2019, the Calhoun/Victoria Foreign Trade Zone, Inc., grantee of FTZ 155, submitted a notification of proposed production activity to the FTZ Board on behalf of Caterpillar, Inc., within FTZ 155, in Victoria, Texas.

The notification was processed in accordance with the regulations of the FTZ Board (15 CFR part 400), including notice in the Federal Register inviting public comment (84 FR 53673, October 8, 2019). On January 27, 2020, the applicant was notified of the FTZ Board's decision that no further review of the activity is warranted at this time. The production activity described in the notification was authorized, subject to the FTZ Act and the FTZ Board's regulations, including Section 400.14.

Dated: January 27, 2020.
Andrew McGilvray,
Executive Secretary.

[FR Doc. 2020-01726 Filed 1-29-20; 8:45 am]

BILLING CODE 3510-DS-P